NUCLEAR REGULATORY COMMISSION

South Texas Project Nuclear Operating Company; Notice of Receipt and Availability of Application for a Combined License

On September 20, 2007, South Texas Project Nuclear Operating Company (STPNOC, or the applicant) filed with the Nuclear Regulatory Commission (NRC, the Commission) pursuant to section 103 of the Atomic Energy Act and 10 CFR Part 52, an application for a combined license (COL) for two Advanced Boiling Water Reactor (ABWR) nuclear power plants at the South Texas Project Electrical Generating Station located in Matagorda County, Texas, and identified as South Texas Project Units 3 and 4.

An applicant may seek a COL in accordance with Subpart C of 10 CFR Part 52. The information submitted by the applicant includes certain administrative information such as financial qualifications submitted pursuant to 10 CFR 50.33, and an agreement to limit access to sensitive information submitted pursuant to 10 CFR 50.37. To support its application, the applicant also requested an exemption from certain requirements of section IV.A.2 of Appendix A to 10 CFR Part 52, as documented in its September 20, 2007, letter. The NRC will review this exemption request and render its decision as part of the acceptance review of the application.

Subsequent Federal Register notices will address the acceptability of the tendered COL application for docketing and provisions for participation of the public in the COL review process.

A copy of the application is available for public inspection at the Commission(s Public Document Room (PDR), located at One White Flint North, 11555 Rockville Pike (first floor), Rockville, Maryland, and via the Agencywide Documents Access and Management System (ADAMS) Public Electronic Reading Room on the Internet at the NRC Web site, http://www.nrc.gov/reading-rm/adams.html. The accession number for the application is ML072830407. Future publicly available documents related to the application will also be posted in ADAMS. Persons who do not have access to ADAMS, or who encounter problems in accessing the documents located in ADAMS, should contact the NRC Public Document Room staff by telephone at 1-800-397-4209 or 301-415-4737, or by e-mail to pdr@nrc.gov. The application is also available at http://www.nrc.gov/reactors/new-licensing/col.html.

Dated at Rockville, Maryland, this 16th day of October, 2007.
For the Nuclear Regulatory Commission.
Thomas A. Bergman,
Deputy Director for Licensing Operations, Division of New Reactor Licensing, Office of New Reactors.

[FR Doc. E7-20861 Filed 10-23-07; 8:45 am]

BILLING CODE 7590-01-P